DEPARTMENT OF TRANSPORTION

Federal Highway Administration

Notice of Final Federal Agency Actions on Proposed Highways in Alaska

AGENCY: Federal Highway Administration (FHWA), DOT.

ACTION: Notice of Limitation on Claims for Judicial Review of Actions by FHWA.

SUMMARY: This notice announces actions taken by the FHWA that are final within the meaning of 23 U.S.C. 139(l)(1). The actions relate to various proposed highway projects in the State of Alaska. Those actions grant approvals for the projects.

DATES: By this notice, the FHWA is advising the public of final agency actions subject to 23 USC 139(l)(1). A claim seeking judicial review of the Federal agency actions on any of the listed highway projects will be barred unless the claim is filed on or before December 10, 2007. If the Federal law that authorizes judicial review of a claim provides a time period of less than 180 days for filing such claim, then that shorter time period still applies.

FOR FURTHER INFORMATION CONTACT: Mr. Dale J. Lewis, Central Region Liaison Engineer, FHWA Alaska Division, P.O. Box 21648, Juneau, Alaska 99802-1648; office hours 7 a.m.-4:30 p.m. (AST), phone (907) 586-7429; e-mail Dale.J.Lewis@dot.gov. You may also contact Jerry O. Ruehle, DOT&PF Central Region Environmental Coordinator, Alaska Department of Transportation and Public Facilities, 4111 Aviation Drive, P.O. Box 196900, Anchorage, Alaska 99519-6900; office hours 7:30 a.m.-5 p.m. (AST), phone (907) 269-0534, e-mail Jerry_Ruehle@dot.state.ak.us.

SUPPLEMENTARY INFORMATION: Notice is hereby given that the FHWA has taken final agency actions by issuing approvals for the following highway projects in the State of Alaska that are listed below. The actions by the Federal agency on the projects, and the laws under which such actions were taken, are described in the Environmental Assessment (EA) issued in connection with the projects. The EA, Finding of No Significant Impact (FONSI), and other documents from the FHWA files for the listed projects are available by contacting the FHWA or the State of Alaska Department of Transportation & Public Facilities at the addresses provided above. The EA and FONSI documents can be viewed and downloaded from the project Web site at http://projects.ch2m.com/Sewardhwy and http://projects.ch2m.com/SewardMeridian or viewed at 4111 Aviation Avenue, Anchorage, Alaska 99519.

This notice applies to all FHWA decisions and approvals on the listed projects as of the issuance date of this notice and all laws and Executive Orders under which such actions were taken, including but not limited to:

1. General: National Environmental Policy Act (NEPA) [42 U.S.C. 4321-4351]; Federal-Aid Highway Act [23 U.S.C. 109].

2. Air: Clean Air Act, [42 U.S.C. 7401-7671(q)].

3. Land: Section 4(f) of the Department of Transportation Act of 1966 [49 U.S.C. 303].

4. Wildlife: Endangered Species Act of 1973 [16 U.S.C. 1531-1544 and Section 1536]; Anadromous Fish Conservation Act [16 U.S.C. 757(a)-757(g)]; Fish and Wildlife Coordination Act [16 U.S.C. 661-667(d)], Migratory Bird Treaty Act [16 U.S.C. 703-712]; Magnuson-Stevenson Fishery Conservation and Management Act 1976 as amended [16 U.S.C. 1801 et seq.].

5. Historic and Cultural Resources: Section 106 of the National Historic Preservation Act of 1966, as amended [16 U.S.C. 470(f) et seq.]; Archeological and Historic Preservation Act [16 U.S.C. 469-469(c)].

6. Social and Economic: Civil Rights Act of 1964 [42 U.S.C. 2000(d)-2000(d)(1)]; Farmland Protection Policy Act (FPPA) [7 U.S.C. 4201-4209].

7. Wetlands and Water Resources: Clean Water Act [33 U.S.C. 1251-1377]; Coastal Zone Management Act [16 U.S.C. 1451-1465]; Land and Water Conservation Fund (LWCF) [16 U.S.C. 4601-4604]; Wild and Scenic Rivers Act [16 U.S.C. 1271-1287].

8. Executive Orders: E.O. 11990 Protection of Wetlands; E.O. 11988 Floodplain Management; E.O. 12898, Federal Actions to Address Environmental Justice in Minority Populations and Low Income Populations; E.O. 13186 Migratory Birds; E.O. 11514 Protection and Enhancement of Environmental Quality.

The projects subject to this notice are:

1. Project Location: Anchorage, Alaska, Municipality of Anchorage, New Seward Highway (NSH). Project Reference Number: FRAF-CA-MGS-NH-0A3-1(27). Project type: Road improvements to NSH between Rabbit Creek Road and 36th Avenue, a distance of approximately eight miles. The NSH will remain a controlled access corridor and noise barriers, fencing, and pathways throughout the corridor will be upgraded or constructed as warranted and continuous illumination will be added augment the existing high-mast interchange lighting. Between O'Malley Road and Dimond Boulevard the existing NSH will be widened from four to six lanes to address current and future travel demand and mobility needs. NEPA document; Environmental Assessment and Finding of No Significant Impact issued November 4, 2006 and available electronically at http://projects.ch2m.com/Sewardhwy.

2. Project Location: Wasilla, Alaska, Matanuska-Susitna Borough, Seward Meridian Parkway (SMP). Project Reference Number: IM-0001(302). Project type: Road improvements to SMP from the Parks Highway to Bogard Road and extension of the road one mile from Bogard Road to Seldon Road; a distance of approximately three miles. The selected alternative will expand the existing SMP from a two-lane facility to a four-lane facility with a center turn lane and a multi-use separated pathway. The project will increase the capacity of SMP and provide a key system line from Seldon Road to the Parks Highway. NEPA document: Environmental Assessment and Finding of No Significant Impact issued April 2, 2007 and available electronically at http://projects.ch2m.com/SewardMeridian.

(Catalog of Federal Domestic Assistance Program Number 20.205, Highway Planning and Construction. the regulations implementing Executive Order 12372 regarding intergovernmental consultation on Federal programs and activities apply to this program.)

Authority: 23 USC § 139(l)(1)

Issued on: May 30, 2007.
David C. Miller,
Division Administrator, Juneau, Alaska.

[FR Doc. 07-2885 Filed 6-8-07; 8:45 am]

BILLING CODE 4910-RY-M